DEPARTMENT OF THE INTERIOR

Bureau of Land Management

[LLWY925000.L13400000.PQ0000 20X]

Notice of Availability of the Final Environmental Impact Statement for the Wyoming Pipeline Corridor Initiative (WPCI) Resource Management Plan Amendments to 9 BLM-Wyoming Resource Management Plans

AGENCY: Bureau of Land Management, Interior

ACTION: Notice of Availability.

SUMMARY: In accordance with the National Environmental Policy Act of 1969, as amended, and the Federal Land Policy and Management Act of 1976, as amended, the Bureau of Land Management (BLM) has prepared a Final Environmental Impact Statement (EIS) and Proposed Resource Management Plan (RMP) Amendment for the proposed Wyoming Pipeline Corridor Initiative(WPCI) within the BLM Cody, Worland, Buffalo, Casper, Lander, Pinedale, Kemmerer, Rawlins and Rock Springs field offices. This notice identifies the initiation of the 30-day protest period and the 60-day Governor's consistency review period for the Proposed RMP Amendment.

DATES: BLM planning regulations state that any person who meets the conditions as described in the regulations may protest the BLM's Final Programmatic EIS and Proposed RMP Amendment. A person who meets the conditions and files a protest must file the protest within 30 days of the date that the Environmental Protection Agency publishes its Notice of Availability (NOA) in the Federal Register.

ADDRESSES: Requests for information regarding the Final EIS may be mailed to:

• Mail: Protest Coordinator, P.O. Box 261117, Lakewood, CO 80226, Overnight Delivery: Director (210), Attention: Protest Coordinator 2850, Youngfield Street, Lakewood, CO 80215.

Copies of the Final EIS are available on the project website at: https://go.usa.gov/xpCMr or https://eplanning.blm.gov/eplanning-ui/project/1502028/570.

FOR FURTHER INFORMATION CONTACT: Heather Schultz, Project Manager, telephone 307-775-6084; address 5353 Yellowstone Road Cheyenne Wyoming; email hschultz@blm.gov. Contact Ms. Schultz to add your name to our mailing list. Persons who use a telecommunications device for the deaf (TDD) may call the Federal Relay Service (FRS) at 1-800-877-8339 to contact the above individual during normal business hours. The FIRS is available 24 hours a day, 7 days a week, to leave a message or question with the above individual. You will receive a reply during normal business hours.

SUPPLEMENTARY INFORMATION: The State of Wyoming is proposing a pipeline corridor network for carbon capture, utilization, and storage (CCUS), enhanced oil recovery (EOR), and other compatible uses to be designated on BLM-managed lands in Wyoming through the land use planning process. The State of Wyoming proposes that roughly 2,000 miles and 25 segments of pipeline corridors be designated on BLM-managed lands and in those lands' associated RMPs. The proposed WPCI corridors are divided into segments based on proposed width and the regions they will service. The BLM analyzed the State's proposal by preparing an EIS. Based on the findings of the EIS process, the BLM is proposing to amend the nine RMPs containing lands proposed for pipeline corridors to designate those corridors. If the BLM were to receive a right-of-way application for CCUS and EOR pipelines or related facilities in the future, project specific NEPA would be completed separately at that time. The analysis has identified issues to address within the planning area, including Greater Sage-Grouse; big game habitat (including migration corridors); potential conflicts with coal mining and other resource uses; air quality; transportation; vegetation and reclamation success; anticipated oil and gas development in the planning area; existing rights-of-way, valid existing rights and other authorizations that may not be permitted in the corridor; and opportunities to apply best management practices and design features.

The BLM analyzed five alternatives:

Alternative A: No Action Under this alternative, none of the RMPs would be amended to establish additional corridors, and the existing corridors would remain and would not be dedicated to pipelines and facilities associated with CCUS, EOR and other uses. These corridors would remain available for any type of potential future project.

Alternative B: Proposed Action: Dedicates Corridors for CCUS and EOR Projects. Portions of existing corridors (300ft or 200ft wide) would be dedicated to pipelines and facilities associated with CCUS, EOR and other uses as outlined in the State of Wyoming Proposal. These corridors would be designated both in Sage Grouse Priority Habitat Management Areas (PHMA) and outside of PHMA as proposed by the state of Wyoming.

Alternative C: Maintain Existing Management in Existing Corridors and create new corridors dedicated to CCUS and EOR Projects. Routes would be modified or eliminated from the Proposal to avoid resource conflicts, Sage Grouse PHMA, pre-existing rights, existing uses and infrastructure. Use of existing corridors would be maximized. Management of existing corridors would remain the same and would not be dedicated to pipelines and facilities associated with CCUS and EOR. Additional corridors would be created (300ft or 200ft wide) dedicated to CCUS, EOR and other uses as outlined in the Proposal and analyzed in the EIS. Additional corridors would be not be created in Sage Grouse PHMA.

Alternative D: Dedicate portions of existing corridors and create new corridors dedicated to CCUS and EOR Projects. Routes would be modified or eliminated from the Proposal to avoid resource conflicts, Sage Grouse PHMA, pre-existing rights, existing uses and infrastructure. Portions of existing corridors (300ft or 200ft wide) would be dedicated to pipelines and facilities associated with CCUS and EOR and other uses as outlined in the State of Wyoming Proposal. Additional corridors would be not be created in Sage Grouse PHMA.

Preferred Alternative (Alternative E): The Preferred Alternative was developed in response to public comments received on the Draft EIS, and combines the uniqueness of each of the 25 segments with the current RMP's as well as specific siting, resource conflicts, restrictions, etc. identified in the robust WPCI analysis. Alternative E does not represent new analysis conducted but rather blends the analysis developed in the Draft EIS under Alternatives B and D.

Instructions for filing a protest regarding the Proposed Land Use Plan Amendment/Final EIS may be found in the “Dear Reader” Letter of the Final EIS and Proposed Land Use Plan Amendment and at 43 CFR 1610.5-2.

A protest may raise only those issues which were submitted for the record during the planning process. The BLM will issue a Record of Decision no earlier than 30 days from the date of the Notice of Availability published by the Environmental Protection Agency.

All protests on the Proposed RMPA must be submitted in writing by any of the following methods:

Website: https://go.usa.gov/xpCMr or https://eplanning.blm.gov/eplanning-ui/project/1502028/570.

Regular Mail: Director (210).

Attention: Protest Coordinator, P.O. Box 261117, Lakewood, CO 80226.

Overnight Delivery: Director (210) Attention: Protest Coordinator, 2850 Youngfield Street, Lakewood, CO 80215.

The BLM encourages submission of protests using the ePlanning online tools rather than by mail.

Before including your address, phone number, email address or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Kimber L. Liebhauser,
BLM Wyoming State Director (Acting).

[FR Doc. 2020-23761 Filed 10-26-20; 8:45 am]

BILLING CODE 4310-22-P